ENVIRONMENTAL PROTECTION AGENCY

40 CFR Part 63

[EPA-HQ-OAR-2003-0146; FRL-8493-6]

RIN 2060-AO55

National Emission Standards for Hazardous Air Pollutants From Petroleum Refineries

AGENCY: Environmental Protection Agency (EPA).

ACTION: Proposed rule; notice of public hearing and reopening of public comment period.

SUMMARY: EPA is announcing that there will be a public hearing regarding the proposed rule on the National Emission Standards for Hazardous Air Pollutants from Petroleum Refineries, published September 4, 2007. The public hearing will be held on November 27, 2007 in Houston, Texas. EPA is also announcing that the comment period is being reopened until December 28, 2007. In addition, we note that additional material has been added to the docket since the proposed rule was published.

DATES: Comments. EPA is reopening the comment period on the proposed rule published on September 4, 2007 (72 FR 50716). Comments must be received on or before December 28, 2007.

Public Hearing. A public hearing on the proposed amendments published on September 4, 2007 (72 FR 50716) will be held on November 27, 2007, at the Hartman Park Community Center, 9311 Avenue P, Houston, Texas 77012. The public hearing will run from 9 a.m. to 9 p.m. You must register to speak on or before November 21, 2007.

ADDRESSES: Submit your comments, identified by Docket ID No. EPA-HQ-OAR-2003-0146 (for petroleum refineries), by one of the following methods:

• www.regulations.gov: Follow the on-line instructions for submitting comments.

• E-mail: a-and-r-Docket@epa.gov.

• Fax: (202) 566-9744.

• Mail: U.S. Postal Service, send comments to: National Emission Standards for Hazardous Air Pollutants from Petroleum Refineries: Residual Risk Standards Docket, Environmental Protection Agency, Air and Radiation Docket and Information Center, Mailcode: 2822T, 1200 Pennsylvania Avenue, NW., Washington, DC 20460. Please include a total of two copies. We request that a separate copy also be sent to the contact person identified below (see FOR FURTHER INFORMATION CONTACT).

• Hand Delivery: In person or by courier, deliver comments to: EPA Docket and Information Center, Public Reading Room, EPA West Building, Room 3334, 1301 Constitution Avenue, NW., Washington, DC 20004. Such deliveries are only accepted during the Docket's normal hours of operation, and special arrangements should be made for deliveries of boxed information.

Instructions: Direct your comments to Docket ID No. EPA-HQ-OAR-2003-0146. EPA's policy is that all comments received will be included in the public docket without change and may be made available online at www.regulations.gov, including any personal information provided, unless the comment includes information claimed to be confidential business information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Please note that additional information has been posted to the docket since the comment period started.

Publicly available docket materials are available either electronically in www.regulations.gov or in hard copy at the National Emission Standards for Hazardous Air Pollutants from Petroleum Refineries: Residual Risk Standards Docket, Environmental Protection Agency, EPA West Building, Room 3334, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1742.

FOR FURTHER INFORMATION CONTACT: If you would like to speak at the public hearing or have questions concerning the public hearing, please contact Mrs. Debra Lee at the address given below under SUPPLEMENTARY INFORMATION.

Questions concerning the proposed rule should be addressed to Mr. Robert Lucas, Office of Air Quality Planning and Standards, Sector Policies and Programs Division, Coatings and Chemicals Group (E143-01), Environmental Protection Agency, Research Triangle Park, North Carolina 27711, telephone number: (919) 541-0884; fax number: (919) 541-0246; e-mail address: lucas.bob@epa.gov.

SUPPLEMENTARY INFORMATION:

Public Hearing

The public hearing will provide interested parties the opportunity to present data, views, or arguments concerning the proposed rules. The EPA may ask clarifying questions during the oral presentations, but will not respond to the presentations at that time. Written statements and supporting information submitted during the comment period will be considered with the same weight as any oral comments and supporting information presented at the public hearings. Written comments must be postmarked by the last day of the comment period, December 28, 2007.

The public hearing will be held at the Hartman Park Community Center, 9311 Avenue P, Houston, Texas 77012. The public hearing will begin at 9 a.m. and continue into the evening until 9 p.m. (local time) or later, if necessary, depending on the number of speakers wishing to participate. EPA is scheduling lunch breaks from 12:30 p.m. until 2 p.m. and dinner breaks from 6 p.m. to 7:30 p.m.

If you would like to present oral testimony at the hearings, please notify Mrs. Debra Lee, U.S. Environmental Protection Agency (D205-02), Research Triangle Park, NC 27711, e-mail (preferred method for registering): lee.debra@epa.gov; telephone: (919) 541-0860. She will arrange a general time slot for you to speak. EPA will make every effort to follow the schedule as closely as possible on the day of the hearings; however, please plan for the hearing to run either ahead of schedule or behind schedule. Please note that registration closes at 5 p.m. EST on Wednesday November 21, 2007.

Oral testimony will be limited to 5 minutes for each commenter to address the proposal. We will not be providing equipment for commenters to show overhead slides or make computerized slide presentations unless we receive special requests in advance. Commenters should notify Mrs. Lee if they will need specific audiovisual equipment. Commenters should also notify Mrs. Lee if they need specific translation services for non-English speaking commenters. EPA encourages commenters to provide written versions of their oral testimonies either electronically on computer disk or CD ROM or in paper copy.

The hearing schedule, including a list of speakers, will be posted on EPA's Web site for the proposal at http://www.epa.gov/ttn/atw/petrefine/petrefpg.html prior to the hearing. Verbatim transcripts of the hearings and written statements will be included in the rulemaking dockets.

Comment Period

Written statements and supporting information submitted during the comment period will be considered with the same weight as any oral comments and supporting information presented at the public hearing. To allow for adequate time for comment after the public hearing, the public comment period will now end on December 28, 2007.

How can I get copies of the proposed rule and other related information?

The proposed rule for the National Emission Standards for Hazardous Air Pollutants from Petroleum Refineries was published September 4, 2007 (72 FR 50716). EPA has established the public docket for the proposed rulemaking under docket ID No. EPA-HQ-OAR-2003-0146. We note that, since the proposed rule was published, additional materials have been added to the docket. Information on how to access the docket is presented above in the ADDRESSES section.

Dated: November 2, 2007.
Stephen L. Johnson,
Administrator.

[FR Doc. E7-21938 Filed 11-7-07; 8:45 am]

BILLING CODE 6560-50-P